DEPARTMENT OF THE INTERIOR

Bureau of Land Management

[LLCON06000-L16100000-DR0000-17X]

Notice of Public Meeting for the Dominguez-Escalante National Conservation Area Advisory Council, Colorado

AGENCY: Bureau of Land Management, Interior.

ACTION: Notice of Meeting.

SUMMARY: In accordance with the Federal Land Policy and Management Act of 1976 and the Federal Advisory Committee Act of 1972, the U.S. Department of the Interior, Bureau of Land Management (BLM) Dominguez-Escalante National Conservation Area (NCA) Advisory Council will meet as indicated below.

DATES: The meeting will be held May 3, 2017, from 3:00 p.m. to 6:00 p.m. Public comments regarding matters on the agenda will be held at 4:15 p.m. and 5:30 p.m.

Any adjustments to this meeting schedule will be advertised on the Dominguez-Escalante NCA RMP Web site: http://1.usa.gov/1qKkMVi.

ADDRESSES: The meeting will be held at the Bill Heddles Recreation Center, 530 Gunnison River Drive, Delta, CO 81416.

FOR FURTHER INFORMATION CONTACT: Collin Ewing, Advisory Council Designated Federal Official, 2815 H Road, Grand Junction, CO 81506. Phone: (970) 244-3049. Email: cewing@blm.gov. Persons who use a telecommunications device for the deaf may call the Federal Relay Service at 1-800-877-8339 to contact the above individual during normal business hours. The Service is available 24 hours a day, seven days a week, to leave a message or question with the above individual. You will receive a reply during normal business hours.

SUPPLEMENTARY INFORMATION: The ten-member Council advises the Secretary of the Interior, through the BLM, on a variety of planning and management issues associated with the Resource Management Plan (RMP) process for the Dominguez-Escalante NCA and Dominguez Canyon Wilderness.

Topics of discussion during the meeting will include presentations from BLM staff on implementation of the approved RMP, the process for development of new trails, and public comments.

The meeting is open to the public, and the agenda allocates time, as identified above, for public comments. Depending on the number of persons wishing to comment and time available, the time for individual oral comments may be limited at the discretion of the chair. The public may also present written comments to the Council at the meeting.

Before including your address, phone number, email address, or other personal identifying information in your comment, you should be aware that your entire comment—including your personal identifying information—may be made publicly available at any time. While you can ask us in your comment to withhold your personal identifying information from public review, we cannot guarantee that we will be able to do so.

Gregory P. Shoop,
BLM Colorado Associate State Director.

[FR Doc. 2017-07372 Filed 4-11-17; 8:45 am]

BILLING CODE 4310-JB-P